DEPARTMENT OF JUSTICE

Drug Enforcement Administration

Manufacturer of Controlled Substances; Notice of Registration

By Notice dated May 7, 2003, and published in the Federal Register on May 29, 2003 (68 FR 32089), Organix, Inc., 240 Salem Street, Woburn, Massachusetts 01810, made application by renewal to the Drug Enforcement Administration to be registered as a bulk manufacturer of the basic class of Cocaine (9041), a Schedule II controlled substance.

The firm plans to manufacture small quantities of a cocaine derivative for distribution for research purposes.

No comments or objections have been received. DEA has considered the factors in Title 21, United States Code, Section 823(a) and determined that the registration of Organix, Inc. to manufacture the listed controlled substances is consistent with the public interest at this time. DEA has investigated Organix, Inc. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed is granted.

Dated: August 27, 2003.
Laura M. Nagel,
Deputy Assistant Administrator, Office of Diversion Control, Drug Enforcement Administration.

[FR Doc. 03-24983 Filed 10-1-03; 8:45 am]

BILLING CODE 4410-09-M